DEPARTMENT OF ENERGY

Federal Energy Regulatory Commission

Combined Notice of Filings

April 23, 2013.

Take notice that the Commission has received the following Natural Gas Pipeline Rate and Refund Report filings:

Filings Instituting Proceedings

Docket Numbers: RP13-804-000.

Applicants: Northwest Pipeline GP.

Description: Revised System Map to be effective 5/1/2013.

Filed Date: 4/22/13.

Accession Number: 20130422-5073.

Comments Due: 5 p.m. ET 5/6/13.

Docket Numbers: RP13-805-000.

Applicants: Boardwalk Storage Company, LLC.

Description: Revise Hub Services and Umbrella Pro Forma Agmts to be effective 5/22/2013.

Filed Date: 4/22/13.

Accession Number: 20130422-5074.

Comments Due: 5 p.m. ET 5/6/13.

Docket Numbers: RP13-806-000.

Applicants: Portland Natural Gas Transmission System.

Description: Docket No. RP08-306 Compliance Filing 1 to be effective 9/30/2010.

Filed Date: 4/22/13.

Accession Number: 20130422-5103.

Comments Due: 5 p.m. ET 5/6/13.

Docket Numbers: RP13-807-000.

Applicants: Natural Gas Pipeline Company of America.

Description: Negotiated Rate—EDF Trading to be effective 5/1/2013.

Filed Date: 4/22/13.

Accession Number: 20130422-5140.

Comments Due: 5 p.m. ET 5/6/13.

Docket Numbers: RP13-808-000.

Applicants: KPC.

Description: KPC Change of Address to be effective 6/1/2013.

Filed Date: 4/22/13.

Accession Number: 20130422-5150.

Comments Due: 5 p.m. ET 5/6/13.

Docket Numbers: RP13-809-000.

Applicants: Kern River Gas Transmission Company.

Description: 2013 Changes to High Desert Pro Formas to be effective 5/23/2013.

Filed Date: 4/22/13.

Accession Number: 20130422-5158.

Comments Due: 5 p.m. ET 5/6/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-556-001.

Applicants: Gulf Shore Energy Partners, LP.

Description: Gulf Shore Energy Partners, Revision 1—LP GAS TARIFF ORIGINAL VOLUME NO. 1 to be effective 5/1/2013.

Filed Date: 4/22/13.

Accession Number: 20130422-5145.

Comments Due: 5 p.m. ET 5/6/13.

Docket Numbers: RP13-676-001.

Applicants: East Tennessee Natural Gas, LLC.

Description: No-bump Compliance Filing to be effective 6/1/2013.

Filed Date: 4/22/13.

Accession Number: 20130422-5104.

Comments Due: 5 p.m. ET 5/6/13.

Docket Numbers: RP13-677-001.

Applicants: Saltville Gas Storage Company L.L.C.

Description: No-bump Compliance Filing to be effective 6/1/2013.

Filed Date: 4/22/13.

Accession Number: 20130422-5093.

Comments Due: 5 p.m. ET 5/6/13.

Docket Numbers: RP13-806-001.

Applicants: Portland Natural Gas Transmission System.

Description: Docket No. RP08-306 Compliance Filing 2 to be effective 10/23/2010.

Filed Date: 4/22/13.

Accession Number: 20130422-5123.

Comments Due: 5 p.m. ET 5/6/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Nathaniel J. Davis, Sr.,
Deputy Secretary.

[FR Doc. 2013-10091 Filed 4-29-13; 8:45 am]

BILLING CODE 6717-01-P